FEDERAL COMMUNICATIONS COMMISSION

[AU Docket No. 12-25; DA 12-947]

Mobility Fund Phase I Auction Supplemental Short-Form Instructions and Other Information

AGENCY: Federal Communications Commission.

ACTION: Notice.

SUMMARY: In this document, the Commission's Wireless Telecommunications and Wireline Competition Bureaus provide supplemental filing instructions for the Mobility Fund Phase I Auction for completing FCC Form 180, announce the availability of certain updated files and provide other information regarding Auction 901.

DATES: Short-Form applications are due prior to 6 p.m. on July 11, 2012.

FOR FURTHER INFORMATION CONTACT: Wireless Telecommunications Bureau, Auctions and Spectrum Access Division: For Mobility Fund Phase I supplemental filing instructions: Lisa Stover at (717) 338-2868.

SUPPLEMENTARY INFORMATION: This is a summary of the Mobility Fund Phase I Supplemental Public Notice (Supplemental Filing Instructions Public Notice) released on June 15, 2012. The Supplemental Filing Instructions Public Notice and its associated attachment as well as related Commission documents may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 12-947. The Supplemental Filing Instructions Public Notice and related documents also are available on the Internet at the Commission's Web site: http://wireless.fcc.gov/auctions/901/ or by using the search function for AU Docket No. 12-25 on the Commission's Electronic Comment Filing System (ECFS) Web page at http://www.fcc.gov/cgb/ecfs/.

1. On May 2, 2012, the Wireless Telecommunications Bureau and Wireline Competition Bureau (the Bureaus) announced the procedures for the Mobility Fund Phase I auction scheduled for September 27, 2012 (Auction 901). The Bureaus provide supplemental filing instructions for completing FCC Form 180, announce the availability of certain updated files, and provide additional information regarding certain details of Auction 901.

Short-Form Application (FCC Form 180) Filing Instructions

2. In the Auction 901 Procedures Public Notice, 77 FR 32092, May 31, 2012, the Bureaus provided general instructions for completing FCC Form 180 and stated that they would provide additional information about accessing, completing, and viewing the FCC Form 180 in a separate public notice. The instructions provided in Attachment A to the Supplemental Filing Instructions Public Notice supplement those contained in the Auction 901 Procedures Public Notice.

Updated Files

3. In the Auction 901 Procedures Public Notice, the Bureaus identified census blocks eligible for the Mobility Fund Phase I support to be offered in Auction 901. The Bureaus also released files containing detailed information about these census blocks. In the Auction 901 Additional Data Formats Public Notice, (DA 12-721 released May 8, 2012) the Bureaus announced the availability of an additional file with information about the biddable geographic areas for Auction 901. In the Supplemental Filing Instructions Public Notice, the Bureaus announce the availability of updated versions of some of these files, which are available via the link for Attachment A Files at http://wireless.fcc.gov/auctions/901/. Specifically, the Biddable Items file, the All Eligible Census Blocks file, and five of the state spreadsheets have been updated. In the Biddable Items file, the header of one of the columns has been changed from Pop10 to Population, and the header of another column has been changed from Tribal Area to Tribal Land. These changes were made to be more consistent with how the data will be presented in the FCC Auction System. Additionally some of the entries in the Tribe and Tribal Land columns have been changed. In the previous version of the file, the name of any tribe or Tribal land that should have included an apostrophe erroneously included two apostrophes. The new file fixes this.

4. The apostrophe anomaly also affected the All Eligible Census Blocks file and five of the state spreadsheets. Consequently, the All Eligible Census Blocks file and the state spreadsheets for Alaska, Arizona, Idaho, Michigan, and Montana have been revised.

Additional Details for Determining Winning Bids

5. In the Auction 901 Procedures Public Notice, the Bureaus described the approach they would use to determine winning bids, including procedures to ensure that at most one bid per geographic area is awarded, the use of random numbers to address tied bids, and the Bureaus procedures when remaining funds are insufficient to support the next lowest bid. The Bureaus clarify those procedures, in particular with respect to the Bureaus use of random selection numbers, so that funds may be used to support new service to as many road miles as possible within the Bureaus' $300 million budget.

6. For each submitted bid, the Bureaus will assign a random selection number, which they will use in two ways: To break any tied bids for the same area, and to establish an order in which they will assign bids with the same dollars per road mile amount for different areas when the remaining funds are insufficient to award support to all the bids in that amount. The Bureaus will also calculate a gross dollar support amount associated with the bid, equal to the gross bid amount times the number of qualifying road miles in the area. To ensure that they award support to at most one bid per geographic area, the Bureaus will first compare net bids (taking into account bidding credits where applicable) for each biddable area, and for each area, retain the lowest net bid for further consideration. If there are ties for the lowest bid for an area, the Bureaus will retain the bid with the highest selection number.

7. To select winning bids, the Bureaus will then compare the retained bids for all areas by sorting them in ascending order of net bid amount (dollars per road mile) and descending order of selection number. The Bureaus will award support to bids in this order, starting with the lowest bid/highest selection number, as long as remaining funds are sufficient to cover the gross dollar support amount of the bid. If a bid cannot be awarded because its gross dollar support would exceed the remaining funds, the Bureaus will skip the bid and consider the next lowest bid/highest selection number, awarding as much support as possible within the Bureaus' $300 million budget.

Federal Communications Commission.
Gary Michaels,
Deputy Chief, Auctions and Spectrum Access Division, WTB.

[FR Doc. 2012-15458 Filed 6-25-12; 8:45 am]

BILLING CODE 6712-01-P